DEPARTMENT OF COMMERCE

International Trade Administration

(A-570-806)

Silicon Metal from the People's Republic of China: Continuation of Antidumping Duty Order

AGENCY: Import Administration, International Trade Administration, Department of Commerce.

SUMMARY: As a result of the determinations by the Department of Commerce (“Department”) and the International Trade Commission (“ITC”) that revocation of the antidumping duty order on silicon metal from the People's Republic of China (“PRC”) would likely lead to continuation or recurrence of dumping and material injury to an industry in the United States, the Department is publishing this notice of continuation of the antidumping duty order.

EFFECTIVE DATE: December 21, 2006.

FOR FURTHER INFORMATION CONTACT: FOR INFORMATION CONTACT: Michael Quigley or Juanita Chen, AD/CVD Operations, Import Administration, International Trade Administration, U.S. Department of Commerce, 14th Street and Constitution Avenue, NW, Washington, DC, 20230; telephone: (202) 482-4047 or (202) 482-1904.

SUPPLEMENTARY INFORMATION:

Background

On January 3, 2006, the Department initiated sunset reviews of the antidumping duty orders on silicon metal from the PRC and Brazil pursuant to section 751(c) of the Tariff Act of 1930, as amended (“Act”). See Initiation of Five-year (“Sunset”) Reviews, 71 FR 91 (January 3, 2006). As a result of its review, the Department found that revocation of the antidumping duty orders would likely lead to continuation or recurrence of dumping, and notified the ITC of the magnitude of margins likely to prevail were the orders to be revoked. See Silicon Metal from the People's Republic of China and Brazil: Final Results of the Expedited Reviews of the Antidumping Duty Orders, 71 FR 26334 (May 4, 2006). On November 15, 2006, the ITC determined, pursuant to section 751(c) of the Act, that revocation of the antidumping duty order on silicon metal from the PRC would likely lead to continuation or recurrence of material injury to an industry in the United States within a reasonably foreseeable time, but that revoking the existing antidumping duty order on silicon metal from Brazil would not. See Silicon Metal From Brazil and China, 71 FR 71554 (December 11, 2006); see also Silicon Metal From Brazil and China, (Investigations Nos. 731-TA-471 and 472 (Second Review)), Publication 3892 (December 2006).

Scope of the PRC Order

The merchandise covered by this order is silicon metal containing at least 96.00 but less than 99.99 percent of silicon by weight. All of the foregoing are constructed of steel and are enameled or glazed with vitreous glasses. The merchandise is currently classifiable under subheadings 2804.69.10 and 2804.69.50 of the Harmonized Tariff Schedule of the United States (“HTSUS”) as a chemical product, but is commonly referred to as a metal. HTSUS items numbers are provided for convenience and customs purposes. The written description of the scope remains dispositive.

In response to a request from petitioners, on February 3, 1993, the Department clarified that silicon metal, with a high aluminum content and a silicon content of at least 89.00 percent but less than 99.99 percent, is within the scope of the order. See Notice of Scope Rulings, 58 FR 27542 (May 10, 1993).

Determination

As a result of the determinations by the Department and the ITC that revocation of the antidumping duty order on silicon metal from the PRC would likely lead to continuation or recurrence of dumping and material injury to an industry in the United States, pursuant to section 751(d)(2) of the Act, the Department hereby orders the continuation of the antidumping duty order on silicon metal from the PRC. U.S. Customs and Border Protection will continue to collect antidumping duty cash deposits at the rates in effect at the time of entry for all imports of subject merchandise.

The effective date of continuation of this order will be the date of publication in the Federal Register of this Notice of Continuation. Pursuant to section 751(c)(2) of the Act, the Department intends to initiate the next five-year review of this order not later than November 2011.

This five-year (sunset) review and notice are in accordance with section 751(c) of the Act and published pursuant to section 777(i)(1) of the Act.

Dated: December 14, 2006.
David M. Spooner
Assistant Secretary for Import Administration

[FR Doc. E6-21849 Filed 12-20-06; 8:45 am]

Billing Code: 3510-DS-S